FEDERAL MINE SAFETY AND HEALTH REVIEW COMMISSION

Sunshine Act Meetings

TIME AND DATE: 2 p.m., Tuesday, January 28, 2025.

PLACE: The Richard V. Backley Hearing Room, Room 511, 1331 Pennsylvania Avenue NW, Suite 504 North, Washington, DC 20004 (enter from F Street entrance).

STATUS: Open.

MATTERS TO BE CONSIDERED: The Commission will consider and act upon the following in open session: Secretary of Labor v. Morton Salt, Inc., Docket No. CENT 2022-0176. (Issues include whether the Judge erred in concluding that violations of 30 CFR 57.3200 and 57.11053(c) were not significant and substantial.)

Any person attending this meeting who requires special accessibility features and/or auxiliary aids, such as sign language interpreters, must inform the Commission in advance of those needs. Subject to 29 CFR 2706.150(a)(3) and 2706.160(d).

CONTACT PERSON FOR MORE INFORMATION: Emogene Johnson (202) 434-9935/(202) 708-9300 for TDD Relay/1-800-877-8339 for toll free.

Phone Number for Listening to Meeting: 1-(866) 236-7472.

Passcode: 678-100.

Authority: 5 U.S.C. 552b.

Dated: January 6, 2025.
Sarah L. Stewart,
Deputy General Counsel.

[FR Doc. 2025-00360 Filed 1-6-25; 4:15 pm]

BILLING CODE 6735-01-P